DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on Monday, June 5, 2006, from 9:30 a.m. until approximately 5:30 p.m.; on Tuesday, June 6, 2006, from 8:30 a.m. until approximately 5:30 p.m., and on Wednesday, June 7, 2006, from 8:30 a.m. until approximately 3:30 p.m. in the Gallery I and II Meeting Rooms at the Hilton Arlington Hotel, 950 North Stafford Street, Arlington, VA 22203. You may call the hotel at (703) 528-6000 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Francesca Paris-Albertson, Executive Director of the National Advisory Committee on Institutional Quality and Integrity, if you have questions about the meeting. You may contact her at the U.S. Department of Education, Room 7110, 1990 K St., NW., Washington, DC 20006; telephone: (202) 219-7009; fax: (202) 219-7008; e-mail: Francesca.Paris-Albertson@ed.gov.

Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the Criteria for Recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will Be on the Agenda for Discussion at the Meeting?

Agenda topics will include the review of agencies that have submitted petitions for renewal of recognition and/or an expansion of an agency's scope of recognition, and the review of agencies that have submitted an interim report or a progress report.

What Agencies Will the National Advisory Committee Review at the Meeting?

The following agencies will be reviewed during the June 5-7, 2006 meeting of the National Advisory Committee:

Nationally Recognized Accrediting Agencies

Petition for Initial Recognition

1. National Oriental Medicine Accreditation Agency (Requested scope of recognition: The accreditation of freestanding educational institutions of Oriental Medicine and programs that offer entry-level professional doctoral degrees in Oriental Medicine.)

Petitions for Renewal of Recognition That Include an Expansion of the Scope of Recognition

1. Accrediting Council for Independent Colleges and Schools (Current scope of recognition: The accreditation of private postsecondary institutions offering certificates or diplomas and postsecondary institutions offering associate's, bachelor's, or master's degrees in programs that are designed to train and educate persons for careers or professions where business applications or doctrines, supervisory or management techniques, professional or paraprofessional applications, and other business-related applications support or constitute the career.) (Requested scope of recognition: The accreditation of private postsecondary institutions offering certificates or diplomas, and postsecondary institutions offering associate, bachelor's, or master's degrees in programs designed to educate students for professional, technical, or occupational careers including those that offer those programs via distance education.)

2. American College of Nurse-Midwives, Division of Accreditation (Current scope of recognition: The accreditation and preaccreditation of basic certificate and basic graduate nurse-midwifery education programs for registered nurses, the pre-accreditation and accreditation of pre-certification nurse-midwifery education programs and the accreditation and pre-accreditation of direct-entry midwifery programs for the non-nurse.) (Requested scope of recognition: The accreditation and preaccreditation of basic certificate, basic graduate nurse-midwifery, direct-entry midwifery, and pre-certification nurse-midwifery education programs. The accreditation and pre-accreditation of freestanding institutions of midwifery education that may offer other related health care programs to include nurse practitioner programs, and including those institutions and programs that offer distance education.)

3. Joint Review Committee on Education in Radiologic Technology (Current scope of recognition: The accreditation of educational programs for radiographers and radiation therapists.) (Requested scope of recognition: The accreditation of educational programs in radiography, including magnetic resonance; radiation therapy; and medical dosimetry at the certificate, associate degree, and baccalaureate degree levels, including programs using distance education methodology.) (Note: The agency has revised its requested scope of recognition from that which was published in the February 6, 2006 Federal Register notice. The agency's original request included the accreditation of programs at the graduate level.)

4. National Council for Accreditation of Teacher Education (Current scope of recognition: The accreditation throughout the United States of professional education units providing baccalaureate and graduate degree programs for the preparation of teachers and other professional personnel for elementary and secondary schools.) (Requested scope of recognition: The accreditation throughout the United States of professional education units providing baccalaureate and graduate degree programs for the preparation of teachers and other professional personnel for elementary and secondary schools including programs offering distance education.)

Petition for Renewal of Recognition That Includes a Contraction of the Scope of Recognition

1. Accreditation Council for Pharmacy Education (Current scope of recognition: The accreditation and preaccreditation of professional degree programs in pharmacy leading to the degrees of Baccalaureate in Pharmacy and Doctor of Pharmacy.) (Requested scope of recognition: The accreditation and preaccreditation of professional degree programs in pharmacy leading to the Doctor of Pharmacy degree.)

Petitions for Renewal of Recognition

1. American Dental Association, Commission on Dental Accreditation (Current scope of recognition: The accreditation of predoctoral dental education programs (leading to the D.D.S or D.M.D degree); advanced dental education programs and allied dental education programs that are fully operational or have attained “accreditation eligible” status, and for its accreditation of programs offered via distance education.) (Requested scope of recognition: The accreditation of predoctoral dental education programs (leading to the DDS or DMD degree), advanced dental education programs, and allied dental education programs that are fully operational or have attained “Initial Accreditation” status, and for accreditation of its programs offered via distance education.) (Note: The requested scope of recognition reflects no change in scope but instead the agency's change in nomenclature from “Accreditation Eligible” to “Initial Accreditation.”)

2. Council on Chiropractic Education, Commission on Accreditation (Current and requested scope of recognition: The accreditation of programs leading to the Doctor of Chiropractic degree and single-purpose institutions offering the Doctor of Chiropractic program.)

3. Joint Review Committee on Educational Programs in Nuclear Medicine Technology (Current and requested scope of recognition: The accreditation of higher education programs for the nuclear medicine technologist.)

4. National Accrediting Commission of Cosmetology Arts and Sciences (Current and requested scope of recognition: The accreditation throughout the United States of postsecondary schools and departments of cosmetology arts and sciences and massage therapy.)

5. Southern Association of Colleges and Schools, Commission on Colleges (Current and requested scope of recognition: The accreditation and preaccreditation (“Candidate for Accreditation”) of degree-granting institutions of higher education in Alabama, Florida, Georgia, Kentucky, Louisiana, Mississippi, North Carolina, South Carolina, Tennessee, Texas, and Virginia, including distance education programs offered at those institutions.)

6. Western Association of Schools and Colleges, Accrediting Commission for Senior Colleges and Universities (Current and requested scope of recognition: The accreditation and preaccreditation (“Candidate for Accreditation”) of senior colleges and universities in California, Hawaii, the United States territories of Guam and American Samoa, the Republic of Palau, the Federated States of Micronesia, the Commonwealth of the Northern Mariana Islands and the Republic of the Marshall Islands, including distance education programs offered at those institutions.)

Interim Report (An interim report is a follow-up report on an accrediting agency's compliance with specific criteria for recognition that was requested by the Secretary when the Secretary granted renewed recognition to the agency.)

1. Accrediting Bureau of Health Education Schools

2. American Speech-Language-Hearing Association, Council on Academic Accreditation in Audiology and Speech—Language Pathology

3. Distance Education and Training Council, Accrediting Commission

Progress Report (A report describing the agency's progress in implementing new accreditation processes and/or procedures.)

1. Montessori Accreditation Council for Teacher Education, Commission on Accreditation

State Agencies Recognized for the Approval of Public Postsecondary Vocational Education

Interim Report

1. Puerto Rico State Agency for the Approval of Public Postsecondary Vocational, Technical Institutions and Programs

Progress Report

1. Oklahoma State Regents for Higher Education

State Agency Recognized for the Approval of Nurse Education

Petition for Renewal of Recognition

1. New York State Board of Regents, State Education Department, Office of the Professions (Nursing Education)

SUPPLEMENTARY INFORMATION: The agency listed below, which was scheduled for review during the National Advisory Committee's June 2006 meeting, will be postponed for review until the Fall 2006 meeting.

1. The petition for renewal of recognition submitted by the American Bar Association, Council of the Section of Legal Education and Admissions to the Bar (Current and requested scope of recognition: The accreditation throughout the United States of programs in legal education that lead to the first professional degree in law, as well as freestanding law schools offering such programs.)

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person identified earlier in this notice so that the request is received via mail, fax, or e-mail no later than May 12, 2006.

Your request (no more than 6 pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the May 12, 2006 deadline will not be distributed to the National Advisory Committee for their consideration. Individuals making oral presentations may not distribute written materials at the meeting.

If I Cannot Attend the Meeting, Can I Submit Written Comments Regarding an Accrediting Agency in Lieu of Making an Oral Presentation?

This notice requests third-party oral testimony, not written comment. Requests for written comments on agencies that are being reviewed during this meeting were published in the Federal Register on February 6, 2006. The National Advisory Committee will receive and consider only written comments submitted by the deadline specified in the above-referenced Federal Register notice.

How Do I Request To Present Comments Regarding General Issues Rather Than Specific Accrediting Agencies?

At the conclusion of the meeting, the National Advisory Committee, at its discretion, may invite attendees to address the Committee briefly on issues pertaining to the functions of the Committee, which are listed earlier in this notice. If you are interested in making such comments, you should inform Ms. Paris-Albertson before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: April 5, 2006.
Sally L. Stroup,
Assistant Secretary for Postsecondary Education.

[FR Doc. E6-5252 Filed 4-10-06; 8:45 am]

BILLING CODE 4000-01-P